DEPARTMENT OF HEALTH AND HUMAN SERVICES

[Document Identifier: OS-0990-New]

Agency Information Collection Request. 30-Day Public Comment Request; 30-day Notice

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer. All comments must be faxed to OMB at 202-395-6974.

Proposed Project: Evaluation of the Afghanistan Health Initiative—OMB No. 0990-NEW—Office of the Assistant Secretary for Planning and Evaluation (ASPE).

Abstract: The Offices of Global Health Affairs (OGHA) and the Assistant Secretary for Planning and Evaluation (ASPE), within the U.S Department of Health and Human Services (HHS), are requesting Office of Management and Budget (OMB) approval for a collection of information to evaluate two components of the Afghanistan Health Initiative (AHI). The Afghanistan Health Initiative is authorized by the Afghanistan Freedom Support Act of 2002 [Pub. L. 107-327 § 103(a)]. The AHI's goal is to improve maternal and child health and to reduce maternal and child mortality in Afghanistan, primarily through strengthening and updating the knowledge and skills of clinical service providers and managers at the Rabia Balkhi Hospital (RBH) in Kabul. Under the AHI, HHS has funded separate cooperative agreements with International Medical Corps (IMC) and CURE International (CURE).

The evaluation includes two approaches for data collection: (1) A set of qualitative interviews with four respondent groups (OB/GYN residents, attending physicians, midwives, and Rabia Balkhi Hospital management staff) and (2) administering a subset of the clinical Standards Based Management (SBM) assessment with two respondent groups (OB/GYN residents and midwives).

Estimated Annualized Burden Table
Forms | Type of respondent | Number of respondents | Number of responses per respondent | Average burden per response (in hours) | Total burden hours
Management Interview Guide | Management Staff | 21 | 1 | 50/60 | 18
Clinician Interview Guide | Attending Physicians | 8 | 1 | 50/60 | 7
Clinician Interview Guide | 1st-4th Year Resident Physicians | 11 | 1 | 50/60 | 9
Clinician Interview Guide | Midwives | 15 | 1 | 50/60 | 13
1st Year Resident, Standards-Based Management Assessment | 1st Year Resident physician staff | 31 | 1 | 1.6 | 50
2nd Year Resident, Standards-Based Management Assessment | 2nd Year Resident physician staff | 8 | 1 | 1.6 | 13
3rd Year Resident, Standards-Based Management Assessment | 3rd Year Resident physician staff | 9 | 1 | 1.1 | 10
4th Year Resident, Standards-Based Management Assessment | 4th Year Resident physician staff | 8 | 1 | 1.6 | 13
Midwife, Standards-Based Management Assessment | Midwives | 75 | 1 | 2.2 | 165
Total |  |  |  |  | 298

Mary Oliver-Anderson,
Office of the Secretary, Paperwork Reduction Act Reports Clearance Officer.

[FR Doc. E8-15601 Filed 7-8-08; 8:45 am]

BILLING CODE 4150-38-P